DEPARTMENT OF COMMERCE

National Telecommunications and Information Administration

[Docket Number: 000410097-1097-02]

RIN 0660-ZA11

Public Telecommunications Facilities Program (PTFP)

AGENCY: National Telecommunications and Information Administration, Commerce.

ACTION: Notice of applications received.

SUMMARY: The National Telecommunications and Information Administration (NTIA) previously announced the solicitation of grant applications for the Public Telecommunications Facilities Program (PTFP). This notice announces the list of applications received and notifies any interested party that it may file comments with the Agency supporting or opposing an application.

FOR FURTHER INFORMATION CONTACT: William Cooperman, Director, Public Telecommunications Facilities Program, telephone: (202) 482-5802; fax: (202) 482-2156. Information about the PTFP can also be obtained electronically via Internet. The PTFP Internet site can be accessed at http://www.ntia.doc.gov.

SUPPLEMENTARY INFORMATION: By Federal Register notice dated December 21, 2000 (65 FR 80710), the NTIA, within the Department of Commerce, announced that it was soliciting grant applications for the Public Telecommunications Facilities Program (PTFP). NTIA announced that the closing date for receipt of PTFP applications was 7 p.m. EST, February 15, 2001.

In all, the PTFP received 251 applications from 50 states and territories (including the District of Columbia). The total amount of funds requested by the applicants is $168 million. Requests for FY 2001 funds total $123 million with an additional $45 million requested during FY 2002-2003 as part of multi-year digital television applications.

Notice is hereby given that the PTFP received applications from the following organizations. The list includes all applications received. Identification of any application only indicates its receipt. It does not indicate that it has been accepted for review, has been determined to be eligible for funding, or that an application will receive an award. Further information about each application is available on the PTFP Internet site at http://www.ntia.doc.gov.

Any interested party may file comments with the Agency supporting or opposing an application and setting forth the grounds for support or opposition. PTFP will forward a copy of any opposing comments to the applicant. Comments must be sent to PTFP at the following address: NTIA/PTFP, Room 4625, 1401 Constitution Ave., NW., Washington, DC 20230.

The Agency will incorporate all comments from the public and any replies from the applicant in the applicant's official file.

Alaska

File No. 01038—Kachemak Bay Broadcasting, Inc. (Homer)—Federal Request: $56,554

File No. 01042—Alaska Public Telecomm. Inc. (Anchorage)—Federal Request: $719,498

File No. 01074—University of Alaska-Fairbanks (Fairbanks)—Federal Request: $1,089,000

File No. 01242—Koahnic Broadcast Corporation (Anchorage)—Federal Request: $309,722

File No. 01244—Tanana Chiefs Conference, Inc. (Fairbanks)—Federal Request: $96,241

Arkansas

File No. 01071—Arkansas Educational Television Comm. (Conway)—Federal Request: $3,646,246

American Samoa

File No. 01024—American Samoa Government (Pago Pago)—Federal Request: $400,000

Arizona

File No. 01036—University of Arizona (Tucson)—Federal Request: $1,091,372

California

File No. 01011—San Mateo County Comm. College (San Mateo)—Federal Request: $344,375

File No. 01025—KTEH-TV Foundation (San Jose)—Federal Request: $2,182,524

File No. 01035—Valley Public Television, Inc. (Fresno)—Federal Request: $205,573

File No. 01110—Redwood Empire Public TV, Inc. (Eureka)—Federal Request: $1,999,056

File No. 01121—CSU-Monterey Bay Foundation (Seaside)—Federal Request: $121,957

File No. 01124—KVIE, Inc (Sacramento)—Federal Request: $779,827

File No. 01129—Rural California Broadcasting Corp. (Rohnert Park)—Federal Request: $1,572,789

File No. 01138—KTEH-TV Foundation (San Jose)—Federal Request: $1,205,847

File No. 01139—Coast Community College (Huntington Beach)—Federal Request: $425,000

File No. 01148—Southern California Public Radio (Pasadena)—Federal Request: $64,829

File No. 01167—S. Orange County Cmnty Coll Dist. (Mission Viejo)—Federal Request: $83,126

File No. 01168—Lake County Community Radio (Lakeport)—Federal Request: $25,365

File No. 01183—Rural California Broadcasting Corp. (Rohnert Park)—Federal Request: $17,896

File No. 01193—Valley Public Television, Inc. (Fresno)—Federal Request: $588,500

File No. 01200—San Bernardino Comm. College (San Bernardino)—Federal Request: $659,104

File No. 01243—San Diego Community Coll. District (San Diego)—Federal Request: $50,556

File No. 01249—Los Angeles Unified School District (Los Angeles)—Federal Request: $380,000

Colorado

File No. 01014—Rocky Mountain Public Broadcasting Inc. (Denver)—Federal Request: $1,741,370

File No. 01039—Ouray School District R-1 (Ouray)—Federal Request: $27,180

File No. 01067—KUTE, Inc (Ignacio)—Federal Request: $74,432

File No. 01080—KUTE Inc. (Ignacio)—Federal Request: $20,486

File No. 01101—Colorado Mountain College (Steamboat Springs)—Federal Request: $10,000

File No. 01112—Front Range Educational Media Corp. (Denver)—Federal Request: $2,012,197

File No. 01143—Rocky Mountain Public Broadcasting Inc. (Denver)—Federal Request: $416,722

File No. 01182—National Technological University (Fort Collins)—Federal Request: $478,336

District of Columbia

File No. 01203—Pacifica Foundation (Washington)—Federal Request: $84,301

File No. 01227—Pacifica Foundation (Washington)—Federal Request: $80,725

Florida

File No. 01012—Florida West Coast Public Broadcasting (Tampa)—Federal Request: $685,708

File No. 01021—University of Florida (Gainesville)—Federal Request: $12,141

File No. 01032—Barry Telecommunications, Inc. (Boynton Beach)—Federal Request: $347,922

File No. 01046—Florida Gulf Coast University (Fort Myers)—Federal Request: $945,200

File No. 01063—Barry Telecommunications, Inc. (West Palm Beach)—Federal Request: $143,540

File No. 01072—Coastal Educational Broadcasters (Daytona Beach)—Federal Request: $1,114,000

File No. 01078—Florida State University (Tallahassee)—Federal Request: $628,059

File No. 01097—Community Communications, Inc. (Orlando)—Federal Request: $1,753,532

File No. 01109—University of South Florida (Tampa)—Federal Request: $22,545

File No. 01144—University of Florida (Gainesville)—Federal Request: $82,215

File No. 01146—University of Florida (Gainesville)—Federal Request: $813,757

File No. 01151—WJCT, Inc. (Jacksonville)—Federal Request: $1,004,811

File No. 01181—Florida State University (Tallahassee)—Federal Request: $55,511

File No. 01207—School Board of Miami-Dade County, FL (Miami)—Federal Request: $32,595

File No. 01215—Florida A&M University (Tallahassee)—Federal Request: $59,173

File No. 01246—City of Clearwater (Clearwater)—Federal Request: $130,000

Georgia

File No. 01058—Georgia Public Telecom. Commission (Atlanta)—Federal Request: $150,925

File No. 01070—Georgia Public Telecom. Commission (Atlanta)—Federal Request: $544,720

File No. 01084—Georgia Public Telecom. Commission (Atlanta)—Federal Request: $151,240

File No. 01126—Radio Free Georgia (Atlanta)—Federal Request: $349,502

File No. 01160—Atlanta Board of Education (Atlanta)—Federal Request: $334,594

File No. 01179—City of Roswell (Roswell)—Federal Request: $42,000

File No. 01195—Valdosta State University (Valdosta)—Federal Request: $87,490

File No. 01208—Morgan County Board of Education (Madison)—Federal Request: $40,922

File No. 01216—Fort Valley State University (Fort Valley)—Federal Request: $276,679

File No. 01228—Town of Trion (Trion)—Federal Request: $89,347

Hawaii

File No. 01026—Hawaii Public Television Foundation (Honolulu)—Federal Request: $2,760,300

Iowa

File No. 01001—University of Northern Iowa (Cedar Falls)—Federal Request: $118,208

File No. 01002—University of Northern Iowa (Cedar Falls)—Federal Request: $75,282

File No. 01003—University of Northern Iowa (Cedar Falls)—Federal Request: $229,224

File No. 01004—University of Northern Iowa (Cedar Falls)—Federal Request: $101,704

File No. 01005—University of Northern Iowa (Cedar Falls)—Federal Request: $37,350

File No. 01006—University of Northern Iowa (Cedar Falls)—Federal Request: $49,619

File No. 01007—University of Northern Iowa (Cedar Falls)—Federal Request: $48,761

File No. 01066—Indian Hills Community College (Ottumwa)—Federal Request: $208,957

File No. 01092—SCOLA (McClelland)—Federal Request: $266,131

File No. 01102—Western Iowa Tech (Sioux City)—Federal Request: $123,216

File No. 01145—Iowa Public Television (Johnston)—Federal Request: $6,050,633

File No. 01165—Iowa State University (Ames)—Federal Request: $99,892

File No. 01188—Kirkwood Community College (Cedar Rapids)—Federal Request: $25,086

Idaho

File No. 01149—Idaho Public Television (Boise)—Federal Request: $1,080,235

File No. 01163—Idaho State Board of Education (Boise)—Federal Request: $147,129

Illinois

File No. 01015—Black Hawk College (Moline)—Federal Request: $398,337

File No. 01020—Western Illinois University (Macomb)—Federal Request: $60,889

File No. 01117—Quincy University Corporation (Quincy)—Federal Request: $9,659

File No. 01135—City Colleges of Chicago (Chicago)—Federal Request: $1,771,078

File No. 01142—Southern Illinois University (Carbondale)—Federal Request: $914,828

File No. 01211—Loyola University Chicago (Chicago)—Federal Request: $12,715

File No. 01233—Illinois Valley Public T/C Corp (Peoria)—Federal Request: $889,075

File No. 01237—Illinois Valley Public T/C Corp. (Peoria)—Federal Request: $57,457

File No. 01238—West Central Illinois ETV T/C Corp (Springfield)—Federal Request: $2,889,047

Indiana

File No. 01016—Michiana Public Broadcasting Corp. (Elkhart)—Federal Request: $117,776

File No. 01050—Tri-State Public Teleplex, Inc. (Evansville)—Federal Request: $747,750

File No. 01099—KETM Radio (Gary)—Federal Request: $502,822

File No. 01113—Fort Wayne Public Television, Inc. (Fort Wayne)—Federal Request: $372,120

File No. 01115—Indiana University (Bloomington)—Federal Request: $170,149

File No. 01191—Ball State University (Muncie)—Federal Request: $21,507

File No. 01192—Metro. Indianapolis Public Broad. (Indianapolis)—Federal Request: $6,682

File No. 01196—Metro. Indianapolis Public Broad. (Indianapolis)—Federal Request: $313,935

Kansas

File No. 01022—Washburn University of Topeka (Topeka)—Federal Request: $1,780,826

File No. 01054—Kansas Public Telecommunication Inc. (Wichita)—Federal Request: $789,300

File No. 01251—Smoky Hills Public TV Corp (Bunker Hill)—Federal Request: $1,830,000

Kentucky

File No. 01027—Eastern Kentucky University (Richmond)—Federal Request: $131,241

File No. 01111—Kentucky Authority for ETV (Lexington)—Federal Request: $1,324,214

Louisiana

File No. 01055—Louisiana Edu. TV Authority (Baton Rouge)—Federal Request: $137,600

File No. 01060—Educational Broadcasting Found. (New Orleans)—Federal Request: $1,788,440

File No. 01177—New Orleans Educ. T/C Consortium (New Orleans)—Federal Request: $175,615

Massachusetts

File No. 01029—Nemasket and Troy Wampanoag (Fall River)—Federal Request: $293,044

File No. 01224—WGBH Educational Foundation (Boston)—Federal Request: $330,075

Maryland

File No. 01041—Maryland Public Broadcasting (Owings Mills)—Federal Request: $3,541,225

Maine

File No. 01248—The Washington County Consortium (Machias)—Federal Request: $1,165,009

Michigan

File No. 01009—Northern Michigan University (Marquette)—Federal Request: $100,960

File No. 01010—University of Michigan (Flint)—Federal Request: $1,147,888

File No. 01017—Northern Michigan University (Marquette)—Federal Request: $1,126,700

File No. 01140—Detroit ETV Foundation (Detroit)—Federal Request: $142,990

File No. 01173—Grand Valley State University (Grand Rapid)—Federal Request: $1,363,462

File No. 01198—Central Michigan University (Mt. Pleasant)—Federal Request: $4,028,500

Minnesota

File No. 01019—Twin Cities Public Television, Inc. (St. Paul)—Federal Request: $331,076

File No. 01023—Twin Cities Public Television, Inc. (St. Paul)—Federal Request: $546,087

File No. 01048—Northern Minnesota PTV, Inc. (Bemidji)—Federal Request: $710,794

File No. 01059—Northern Minnesota PTV, Inc. (Bemidji)—Federal Request: $1,038,292

File No. 01069—Duluth-Superior Area ETV Corp (Duluth)—Federal Request: $1,315,284

File No. 01128—Minnesota Public Radio (St. Paul)—Federal Request: $91,663

File No. 01156—Minnesota Public Radio (St. Paul)—Federal Request: $476,072

File No. 01206—Austin Independ. School Dist. #492 (Austin)—Federal Request: $672,959

File No. 01209—Austin Independent School Dist #492 (Austin)—Federal Request: $439,408

Missouri

File No. 01065—Central Missouri State University (Warrensburg)—Federal Request: $795,500

File No. 01083—Southwest Missouri State University (Springfield)—Federal Request: $1,438,053

File No. 01176—Public Television 19, Inc. (Kansas City)—Federal Request: $568,561

File No. 01218—University of Missouri/St. Louis (St. Louis)—Federal Request: $17,590

Mississippi

File No. 01136—Mississippi ETV (Jackson)—Federal Request: $2,975,400

File No. 01194—Alcorn State University (Alcorn State)—Federal Request: $95,550

Montana

File No. 01028—Montana State University (Bozeman)—Federal Request: $3,506,314

File No. 01031—Montana State University (Bozeman)—Federal Request: $3,424,762

File No. 01190—Billings Community Cable Corp. (Billings)—Federal Request: $39,723

North Carolina

File No. 01057—University Radio Foundation Inc. (Charlotte)—Federal Request: $407,190

File No. 01077—University Radio Foundation, Inc. (Charlotte)—Federal Request: $110,025

File No. 01090—Western North Carolina Public Radio (Asheville)—Federal Request: $108,500

File No. 01096—Craven Community College (New Bern)—Federal Request: $97,987

File No. 01098—WPEM—LP TV 47 (Lumberton)—Federal Request: $112,500

File No. 01199—Friends of Public Radio, Inc. (Wilmington)—Federal Request: $120,281

File No. 01222—Un. of NC Center for PTV (Research Triangle Park)—Federal Request: $760,000

File No. 01240—Nectar Arts & Commun. Group, Inc. (Pelham)—Federal Request: $62,450

North Dakota

File No. 01234—Prairie Public Broadcasting, Inc. (Fargo)—Federal Request: $892,541

File No. 01236—Prairie Public Broadcasting, Inc. (Fargo)—Federal Request: $2,066,205

Nebraska

File No. 01043—University of Nebraska (Omaha)—Federal Request: $31,248

File No. 01104—Educational Service Unit #7 (Columbus)—Federal Request: $432,447

File No. 01230—Nebraska Educ'l Telecom. Commission (Lincoln)—Federal Request: $240,000

File No. 01232—Nebraska Educ'l Telecom. Commission (Lincoln)—Federal Request: $16,500

New Hampshire

File No. 01013—University of New Hampshire (Durham)—Federal Request: $1,386,389

New Jersey

File No. 01217—New Jersey Public Broadcasting Authority (Trenton)—Federal Request: $84,625

File No. 01225—Centenary College (Hackensack)—Federal Request: $32,250

File No. 01226—New Jersey Public Broadcasting Authority (Trenton)—Federal Request: $645,750

File No. 01241—Borough of Roselle (Roselle)—Federal Request: $13,023

New Mexico

File No. 01159—Penasco Area Communities Assoc. (Penasco)—Federal Request: $60,500

Nevada

File No. 01075—Clark County School District (Las Vegas)—Federal Request: $94,570

File No. 01079—Friends of 15 (Elko)—Federal Request: $204,075

File No. 01114—Channel 5 Public Broadcasting, Inc. (Reno)—Federal Request: $505,124

File No. 01118—Nevada Public Radio Corporation (Las Vegas)—Federal Request: $150,092

File No. 01169—Nevada Public Radio Corporation (Las Vegas)—Federal Request: $75,889

New York

File No. 01034—St. Lawrence Valley ETV Council Inc. (Watertown)—Federal Request: $3,425,206

File No. 01045—WSKG Public Telecommunications Council (Vestal)—Federal Request: $677,180

File No. 01091—Mountain Lake Public Telecomm. (Plattsburgh)—Federal Request: $2,117,266

File No. 01107—WNED (Buffalo)—Federal Request: $605,835

File No. 01123—Long Island Educ. TV Council (Plainview)—Federal Request: $427,169

File No. 01125—Long Island Educ. TV Council, Inc. (Planview)—Federal Request: $346,680

File No. 01133—WMHT Educational Telecomm. (Schenectady)—Federal Request: $704,378

File No. 01153—Fordham University (Bronx)—Federal Request: $81,231

File No. 01162—Greece Central School District (North Greece)—Federal Request: $41,935

File No. 01174—The Thing, Inc. (New York)—Federal Request: $282,000

File No. 01184—WXXI Public Broadcasting Council (Rochester)—Federal Request: $390,813

File No. 01187—WSLU-FM, St. Lawrence University (Canton)—Federal Request: $13,500

File No. 01205—State University of New York (Amherst)—Federal Request: $78,571

File No. 01223—University of Buffalo (Amherst)—Federal Request: $11,045

File No. 01250—WNYE (New York)—Federal Request: $341,733

Ohio

File No. 01085—Greater Cincinnati TV Educ'l Fndn. (Cincinnati)—Federal Request: $634,084

File No. 01086—Public Broadcasting Fnd. of NW Ohio (Toledo)—Federal Request: $35,250

File No. 01087—Public Broadcasting Fnd. of NW Ohio (Toledo)—Federal Request: $375,250

File No. 01088—Ohio University (Athens)—Federal Request: $1,187,216

File No. 01106—ETV Assoc. of Metro. Cleveland (Cleveland)—Federal Request: $1,653,702

File No. 01108—The Ohio State University (Columbus)—Federal Request: $22,350

File No. 01134—Northeastern ETV of Ohio (Kent)—Federal Request: $338,613

File No. 01147—Antioch University (Yellow Springs)—Federal Request: $48,785

File No. 01150—Northeastern ETV of Ohio (Kent)—Federal Request: $349,061

File No. 01155—Antioch University (Yellow Springs)—Federal Request: $10,413

File No. 01158—C.O.P.E. Network, Inc. (Columbus)—Federal Request: $250,000

File No. 01166—Greater Dayton Public Television (Dayton)—Federal Request: $1,109,871

File No. 01171—Antioch University (Yellow Springs)—Federal Request: $19,738

File No. 01175—Greater Dayton Public Television (Dayton)—Federal Request: $1,406,291

File No. 01186—Ohio U. College of Osteopathic Med (Athens)—Federal Request: $292,295

File No. 01229—The Ohio State University (Columbus)—Federal Request: $1,067,880

File No. 01231—The Ohio State University (Columbus)—Federal Request: $142,202

Oklahoma

File No. 01053—Cameron University (Lawton)—Federal Request: $146,538

File No. 01056—Cameron University (Lawton)—Federal Request: $48,918

File No. 01119—Oklahoma Educational Television (Oklahoma City)—Federal Request: $372,104

File No. 01120—Oklahoma Educational Televsion (Oklahoma City)—Federal Request: $2,423,725

File No. 01127—University of Oklahoma (Norman)—Federal Request: $413,336

File No. 01247—Rogers State University (Claremore)—Federal Request: $713,199

Oregon

File No. 01161—Oregon Public Broadcasting (Portland)—Federal Request: $87,438

File No. 01197—Southern Oregon Public Television (Medford)—Federal Request: $96,762

Pennsylvania

File No. 01018—Public Broadcasting of NW PA, Inc. (Erie)—Federal Request: $81,329

File No. 01068—WQED Pittsburgh (Pittsburgh)—Federal Request: $1,052,692

File No. 01141—WHYY, Inc. (Philadelphia)—Federal Request: $222,661

File No. 01152—WHYY, Inc. (Philadelphia)—Federal Request: $54,755

File No. 01170—Lehigh Valley Public T/C (Bethlehem)—Federal Request: $776,048

File No. 01172—WQED Pittsburgh (Pittsburgh)—Federal Request: $43,842

File No. 01185—Independ. Pub. Media of Phila., Inc (Philadelphia)—Federal Request: $328,950

File No. 01202—SACA Broadcasting Corporation (Lancaster)—Federal Request: $32,412

File No. 01213—WITF, Inc. (Harrisburg)—Federal Request: $281,787

File No. 01219—WITF, Inc. (Harrisburg)—Federal Request: $15,650

File No. 01245—University of Pennsylvania (Philadelphia)—Federal Request: $92,057

Puerto Rico

File No. 01235—Ana G. Mendez University System (San Juan)—Federal Request: $1,575,350

Rhode Island

File No. 01220—Rhode Island Public Telecomm. (Providence)—Federal Request: $700,000

South Carolina

File No. 01093—South Carolina Educational Television (Columbia)—Federal Request: $4,545,082

File No. 01164—Williamsburg Technical College (Kingstree)—Federal Request: $34,560

South Dakota

File No. 01154—KCSD-FM, 90.0 (Sioux Falls)—Federal Request: $7,030

File No. 01201—South Dakota Public Television (Vermillion)—Federal Request: $5,281,755

Tennessee

File No. 01008—East Tennessee Public TV (Knoxville)—Federal Request: $1,466,429

File No. 01132—Greater Chattanooga Public TV (Chattanooga)—Federal Request: $624,790

File No. 01204—Mid-South Public Communications (Memphis)—Federal Request: $941,613

File No. 01221—Mid-South Public Communications (Memphis)—Federal Request: $96,738

Texas

File No. 01062—South Texas Public Br. Sys. Inc (Corpus Christi)—Federal Request: $565,800

File No. 01073—North Texas Public Broadcasting Inc. (Dallas)—Federal Request: $113,609

File No. 01081—Navarro College (Corsicana)—Federal Request: $36,375

File No. 01094—Texas A&M University (College Station)—Federal Request: $602,000

File No. 01095—North Texas Public Broadcasting Inc. (Dallas)—Federal Request: $87,250

File No. 01100—Vision Productions, Inc (Mansfield)—Federal Request: $1,151,616

File No. 01122—Alamo Public Telecomm. Council (San Antonio)—Federal Request: $456,837

File No. 01137—Capital of Texas Public Telecomm. Council (Austin)—Federal Request: $802,880

File No. 01189—Odessa Junior College District (Odessa)—Federal Request: $700,000

File No. 01239—El Paso Public Television Foundation, Inc. (El Paso)—Federal Request: $1,524,757

Utah

File No. 01049—Un. of Utah, Office of Sp. Projects (Salt Lake City)—Federal Request: $439,242

File No. 01076—KZMU—Moab Public Radio (Moab)—Federal Request: $20,500

File No. 01131—Brigham Young University (Provo)—Federal Request: $581,000

File No. 01178—Utah State University (Logan)—Federal Request: $5,253

Virginia

File No. 01030—Commonwealth Public Broadcasting Corp (Richmond)—Federal Request: $675,193

File No. 01037—Virginia Tech (Blacksburg)—Federal Request: $365,457

File No. 01116—Public Broadcasting Service (Alexandria)—Federal Request: $2,765,000

File No. 01210—Blue Ridge Public Television (Roanoke)—Federal Request: $522,195

File No. 01214—Blue Ridge Public Television, Inc. (Roanoke)—Federal Request: $1,391,471

Virgin Islands

File No. 01051—Virgin Islands Public TV System (St. Thomas)—Federal Request: $468,325

Vermont

File No. 01047—Vermont ETV Inc (Colchester)—Federal Request: $2,083,312

Washington

File No. 01033—KSER Foundation (Lynnwood)—Federal Request: $14,250

File No. 01040—Washington State University (Pullman)—Federal Request: $95,784

File No. 01052—Washington State University (Pullman)—Federal Request: $1,128,046

File No. 01061—KCTS Television (Seattle)—Federal Request: $764,150

File No. 01064—Spokane School District 81/KSPS-TV (Spokane)—Federal Request: $733,256

File No. 01082—Bellevue Community College (Bellevue)—Federal Request: $9,651

File No. 01089—Northwest Comm. Edu. Center (Granger)—Federal Request: $79,532

File No. 01212—Bates Technical College (Tacoma)—Federal Request: $2,002,872

Wisconsin

File No. 01130—Wisconsin Educational Comm Board (Madison)—Federal Request: $2,440,646

File No. 01157—University of Wisconsin Extension (Madison)—Federal Request: $74,625

File No. 01180—Milwaukee Area Technical College (Milwaukee)—Federal Request: $809,822

West Virginia

File No. 01044—WV Educ. Broadcasting Authority (Charleston)—Federal Request: $1,745,668

File No. 01103—Pocahontas Comm. Cooperative Corp. (Dunmore)—Federal Request: $110,001

File No. 01105—Pocahontas Comm. Cooperative Corp (Dunmore)—Federal Request: $52,464

Bernadette McGuire-Rivera,
Associate Administrator, Office of Telecommunications and Information Applications.

[FR Doc. 01-9845 Filed 4-19-01; 8:45 am]

BILLING CODE 3510-60-P